DEPARTMENT OF DEFENSE

Department of the Army; Corps of Engineers

Availability of a Draft Environmental Impact Statement To Consider Issuance of a Department of the Army Permit Pursuant to Section 404 of the Clean Water Act for Mingo Logan Coal Company's (Mingo Logan) Proposal To Construct and Operate Spruce No. 1 Mine, Near Blair in Logan County, WV

AGENCY: Department of the Army; Corps of Engineers, DoD.

ACTION: Notice.

SUMMARY: In accordance with the requirements of the National Environmental Policy Act (NEPA), the U.S. Army Corps of Engineers (USACE) Huntington District, in cooperation with U.S. Environmental Protection Agency, the U.S. Fish and Wildlife Service, the Office of Surface Mining and the West Virginia Department of Environmental Protection, has prepared a Draft Environmental Impact Statement (DEIS). This DEIS evaluates potential impacts to the natural, physical and human environment as a result of the proposed mining activities associated with Mingo Logan Coal Company's (Mingo Logan) Spruce No. 1 Mine. The USACE regulates this proposed project pursuant to Section 404 of the Clean Water Act. The proposed activity would involve the discharge of dredged and fill material into waters of the United States associated with the proosed construction and operation of a surface bituminous coal mine.

DATES: Submit comments by May 15, 2006. A public hearing regarding this DEIS will be held May 1, 2006 (see SUPPLEMENTARY INFORMATION).

ADDRESSES: Send written comments and suggestions concerning this proposal to Mrs. Teresa Spagna, Regulatory Project Manager, Regulatory Branch, CELRH-OR-FS, U.S. Army Corps of Engineers, Huntington District, 502 8th Street, Huntington, WV 25701. Telephone (304) 399-5710 or electronic mail at Teresa.D.Spagna@Lrh01.usace.army.mil. Requests to be placed on the mailing list should also be sent to this address.

FOR FURTHER INFORMATION CONTACT: Mrs. Teresa Spagna, Regulatory Project Manager at (304) 399-5710 or electronic mail at Teresa.D.Spagna@Lrh01.usace.army.mil.

SUPPLEMENTARY INFORMATION: Discharges of dredged and fill material into the waters of the United States are regulated under Section 404 of the Clean Water Act, with the permitting responsibility administered by the USACE. The proposed project must also address environmental impacts relative to the Clean Air Act, Clean Water Act, Endangered Species Act and the Fish and Wildlife Coordination Act (FWCA). In accordance with the NEPA, the DEIS evaluates reasonable alternatives for the USACE's decision making process. As required by NEPA, the USACE also analyzes the “no action” alternative as a baseline for gauging potential impacts.

As part of the public involvement process, notice is hereby given by the USACE-Huntington District of a Public Hearing to be held at the Earl Ray Tomlin Convention Center, in Chapmanville, Logan County, WV, from 7 to 10 p.m. on May 1, 2006. The Public Hearing will allow participants the opportunity to comment on the DEIS prepared for the proposed Spruce No. 1 Mine project.

The comments are due 45 days from the date of publication of this notice. Copies of the document may be obtained by contacting USACE Huntington District Regulatory Branch at 304-399-5210 or 304-399-5710.

Copies of the Draft EIS are also available for inspection at the locations identified below:

(1) Blair Post Office, P.O. Box 9998, Blair, WV 25022-9998.

(2) Kanawha County Public Library, 123 Capital Street, Charleston, WV 25301.

(3) Logan County Public Library, 16 Wildcat Way, Logan, WV 25601.

After the public comment period ends, USACE will consider all comments received, revise the DEIS as appropriate, and issue a Final Environmental Impact Statement.

Brenda S. Bowen,
Army Federal Register Liaison Officer.

[FR Doc. 06-3144 Filed 3-30-06; 8:45 am]

BILLING CODE 3710-GM-M